DEPARTMENT OF AGRICULTURE

Forest Service

Northeast Oregon Forests Resource Advisory Committee (RAC); Meetings

AGENCY: Forest Service, USDA.

ACTION: Notice of meetings.

SUMMARY: Pursuant to the authorities in the Federal Advisory Committees Act (Pub. L. 92-463), the Northeast Oregon Forests Resource Advisory Committee (RAC) will meet on April 4-5, 2002 in John Day, Oregon; May 30-31 in Baker City, Oregon; and June 14 in Pendleton, Oregon. The purpose of the meetings is to meet as a Committee to review and recommend the selection of Title II projects under Public Law 106-393, H.R. 2389, the Secure Rural Schools and Community Self-Determination Act of 2000, also called the “Payments to States” Act.

DATES: The meetings will be held as follows: April 4, 2002, 9 a.m. to 4:30 p.m., John Day, Oregon; April 5, 2002, 8:30 a.m. to 4:45 p.m., John Day, Oregon; May 30, 2002, 9 a.m. to 4:30 p.m., Baker City, Oregon; May 31, 2002, 8 a.m. to 4:45 p.m., Baker City, Oregon; See Supplementary Information section for one additional meeting date.

ADDRESSES: The April 4-5, 2002 meetings will be held in Juniper Hall, at the Malheur National Forest Headquarters Office located at 431 Patterson Bridge Road, John Day, Oregon. The May 30-31, 2002 meetings will be held in the conference room at the Baker Ranger District office located at 3165 10th Street, Baker City, Oregon. See Supplementary Information section for the location of one additional meeting.

FOR FURTHER INFORMATION CONTACT: Bonnie Wood, Designated Federal Official, USDA, Malheur National Forest, PO Box 909, John Day, Oregon 97845. Phone: (541) 575-3100.

SUPPLEMENTARY INFORMATION: At the April 4-5, 2002 meeting the committee will determine the overhead rate for projects and then will review and recommend Fiscal Year 2002 project proposals for funding under Public Law 106-393, H.R. 2389, the Secure Rural Schools and Community Self-Determination Act of 2000. A public input opportunity will be provided at 11:15 a.m. on April 4, and individuals will have the opportunity to address the committee at that time. At the May 30-31, 2002 meeting the committee will determine if they wish to change their review process and will then review and recommend Fiscal Year 2003 project proposals for funding under Public Law 106-393, H.R. 2389, the Secure Rural Schools and Community Self-Determination Act of 2000. A public input opportunity will be provided at 11:15 a.m. on May 30, and individuals will be able to address the committee at that time. One additional meeting will be held on June 14, 2002 in Pendleton, Oregon to finish reviewing project proposals for Fiscal Year 2003 funding. This meeting will be held at the Oregon Trail room, Red Lion Inn, in Pendleton, Oregon. The meeting will begin at 8 a.m. and end at 4 p.m. A public input opportunity will be provided at 11:15 a.m., and individuals will be able to address the committee at that time.

Dated: March 5, 2002.
Bonnie J. Wood,
Forest Supervisor.

[FR Doc. 02-5839 Filed 3-11-02; 8:45 am]

BILLING CODE 3410-DK-M